DEPARTMENT OF ENERGY

Federal Energy Regulatory Commission

Combined Notice of Filings #1

Take notice that the Commission received the following exempt wholesale generator filings:

Docket Numbers: EG23-277-000.

Applicants: River Ferry Solar I LLC.

Description: River Ferry Solar I LLC submits Notice of Self-Certification of Exempt Wholesale Generator Status.

Filed Date: 9/6/23.

Accession Number: 20230906-5171.

Comment Date: 5 p.m. ET 9/27/23.

Take notice that the Commission received the following electric rate filings:

Docket Numbers: ER23-1407-002.

Applicants: Transource Pennsylvania, LLC.

Description: Compliance filing: American Electric Power Service Corporation submits tariff filing per 35: Transource Compliance Filing regarding Transmission Rates in ER23-1407 to be effective 8/12/2023.

Filed Date: 9/8/23.

Accession Number: 20230908-5061.

Comment Date: 5 p.m. ET 9/29/23.

Docket Numbers: ER23-2779-000.

Applicants: PJM Interconnection, L.L.C.

Description: Tariff Amendment: Notice of Cancellation of ISA, SA No. 5990; Queue No. AF2-265 Re: Breach to be effective 11/6/2023.

Filed Date: 9/7/23.

Accession Number: 20230907-5119.

Comment Date: 5 p.m. ET 9/28/23.

Docket Numbers: ER23-2780-000.

Applicants: Public Service Company of Colorado.

Description: Tariff Amendment: 2023-09-07—GI-2016-15 E&P-Agrmt—556—NOC to be effective 11/6/2023.

Filed Date: 9/7/23.

Accession Number: 20230907-5130.

Comment Date: 5 p.m. ET 9/28/23.

Docket Numbers: ER23-2781-000.

Applicants: Southwest Power Pool, Inc.

Description: § 205(d) Rate Filing: Attachment AA to Add the Winter Season Resource Adequacy Requirement to be effective 12/1/2023.

Filed Date: 9/8/23.

Accession Number: 20230908-5016.

Comment Date: 5 p.m. ET 9/29/23.

Docket Numbers: ER23-2782-000.

Applicants: Algodon Solar Energy LLC.

Description: § 205(d) Rate Filing: Revised Market-Based Rate Tariff Filing to be effective 11/8/2023.

Filed Date: 9/8/23.

Accession Number: 20230908-5026.

Comment Date: 5 p.m. ET 9/29/23.

Docket Numbers: ER23-2783-000.

Applicants: Algodon Solar Energy Holdings LLC.

Description: § 205(d) Rate Filing: Revised Market-Based Rate Tariff Filing to be effective 11/8/2023.

Filed Date: 9/8/23.

Accession Number: 20230908-5027.

Comment Date: 5 p.m. ET 9/29/23.

Docket Numbers: ER23-2784-000.

Applicants: Chisholm Trail Solar Energy LLC.

Description: § 205(d) Rate Filing: Revised Market-Based Rate Tariff Filing to be effective 11/8/2023.

Filed Date: 9/8/23.

Accession Number: 20230908-5036.

Comment Date: 5 p.m. ET 9/29/23.

Docket Numbers: ER23-2785-000.

Applicants: Chisholm Trail Solar Energy Holdings LLC.

Description: § 205(d) Rate Filing: Revised Market-Based Rate Tariff Filing to be effective 11/8/2023.

Filed Date: 9/8/23.

Accession Number: 20230908-5038.

Comment Date: 5 p.m. ET 9/29/23.

Docket Numbers: ER23-2786-000.

Applicants: Flat Ridge 4 Wind, LLC.

Description: § 205(d) Rate Filing: Revised Market-Based Rate Tariff Filing to be effective 11/8/2023.

Filed Date: 9/8/23.

Accession Number: 20230908-5046.

Comment Date: 5 p.m. ET 9/29/23.

Docket Numbers: ER23-2787-000.

Applicants: Flat Ridge 4 Wind Holdings LLC.

Description: § 205(d) Rate Filing: Revised Market-Based Rate Tariff Filing to be effective 11/8/2023.

Filed Date: 9/8/23.

Accession Number: 20230908-5050.

Comment Date: 5 p.m. ET 9/29/23.

Docket Numbers: ER23-2788-000.

Applicants: PJM Interconnection, L.L.C.

Description: § 205(d) Rate Filing: Original ISA, Service Agreement No. 7069; Queue No. AF1-064 to be effective 8/7/2023.

Filed Date: 9/8/23.

Accession Number: 20230908-5054.

Comment Date: 5 p.m. ET 9/29/23.

Docket Numbers: ER23-2789-000.

Applicants: Flat Ridge 5 Wind Energy LLC.

Description: § 205(d) Rate Filing: Revised Market-Based Rate Tariff Filing to be effective 11/8/2023.

Filed Date: 9/8/23.

Accession Number: 20230908-5063.

Comment Date: 5 p.m. ET 9/29/23.

Docket Numbers: ER23-2790-000.

Applicants: Flat Ridge 5 Wind Energy Holdings LLC.

Description: § 205(d) Rate Filing: Revised Market-Based Rate Tariff Filing to be effective 11/8/2023.

Filed Date: 9/8/23.

Accession Number: 20230908-5064.

Comment Date: 5 p.m. ET 9/29/23.

Docket Numbers: ER23-2791-000.

Applicants: Midcontinent Independent System Operator, Inc., Michigan Electric Transmission Company, LLC.

Description: § 205(d) Rate Filing: Midcontinent Independent System Operator, Inc. submits tariff filing per 35.13(a)(2)(iii: 2023-09-08_METC Abandonment Incentive Application-Hiple/Helix to be effective 11/8/2023.

Filed Date: 9/8/23.

Accession Number: 20230908-5075.

Comment Date: 5 p.m. ET 9/29/23.

Docket Numbers: ER23-2792-000.

Applicants: Lazbuddie Wind Energy LLC.

Description: § 205(d) Rate Filing: Revised Market-Based Rate Tariff Filing to be effective 11/8/2023.

Filed Date: 9/8/23.

Accession Number: 20230908-5099.

Comment Date: 5 p.m. ET 9/29/23.

Docket Numbers: ER23-2793-000.

Applicants: Lazbuddie Wind Energy Holdings LLC.

Description: § 205(d) Rate Filing: Revised Market-Based Rate Tariff Filing to be effective 11/8/2023.

Filed Date: 9/8/23.

Accession Number: 20230908-5100.

Comment Date: 5 p.m. ET 9/29/23.

Docket Numbers: ER23-2794-000.

Applicants: Pixley Solar Energy LLC.

Description: § 205(d) Rate Filing: Revised Market-Based Rate Tariff Filing to be effective 11/8/2023.

Filed Date: 9/8/23.

Accession Number: 20230908-5103.

Comment Date: 5 p.m. ET 9/29/23.

Docket Numbers: ER23-2795-000.

Applicants: Pixley Solar Energy Holdings LLC.

Description: § 205(d) Rate Filing: Revised Market-Based Rate Tariff Filing to be effective 11/8/2023.

Filed Date: 9/8/23.

Accession Number: 20230908-5105.

Comment Date: 5 p.m. ET 9/29/23.

Docket Numbers: ER23-2796-000.

Applicants: AEP Texas Inc.

Description: § 205(d) Rate Filing: AEPTX-LCRA TSC (B&B Gravel) Facilities Development Agreement to be effective 8/23/2023.

Filed Date: 9/8/23.

Accession Number: 20230908-5122.

Comment Date: 5 p.m. ET 9/29/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 8, 2023.
Kimberly D. Bose,
Secretary.

[FR Doc. 2023-19880 Filed 9-13-23; 8:45 am]

BILLING CODE 6717-01-P